DEPARTMENT OF ENERGY

Federal Energy Regulatory Commission

[Project No. 13398-000]

Arizona Independent Power, Inc.; Notice of Preliminary Permit Application Accepted for Filing and Soliciting Comments, Motions To Intervene, and Competing Applications

July 10, 2009.

On March 7, 2009, Arizona Independent Power, Inc. filed an application for a preliminary permit, pursuant to section 4(f) of the Federal Power Act, proposing to study the feasibility of the Ford Canyon Pumped Storage Water Power Project, which comprises two dams located on the White Tank Mountain in Maricopa County, Arizona. The sole purpose of a preliminary permit, if issued, is to grant the permit holder priority to file a license application during the permit term. A preliminary permit does not authorize the permit holder to perform any land disturbing activities or otherwise enter upon lands or waters owned by others without the owners' express permission.

The proposed project would consist of the following features:

(1) A proposed, 250-foot-high, 1,970-foot-long, earth and rock-filled dam with an impervious core, creating a reservoir with a surface elevation of 150 acres and a volume of 16,000 acre-feet; (2) a proposed 210-foot-high, 2,160-foot-long, earth and rock-filled dam with an impervious core, creating a reservoir with a surface elevation of 140 acres, and a volume of 14,900 acre-feet; (3) two 14,070-foot-long penstocks with a diameter of 20 feet; (4) a 750-foot-long by 175-foot-high by 70-foot-wide powerhouse containing three new 267-megawatt Francis pump turbines; (5) two tailraces with diameters of 28 feet; (6) a proposed 40-mile-long, twin circuit, 500-kilovolt transmission line; and (7) appurtenant facilities. The proposed pumped storage project would utilize water from the Colorado River system conveyed to the project via the existing Central Arizona (aqueduct) Project and would have an average annual generation of 1,078 gigawatt-hours.

Applicant Contact: Frank L. Mazzone, President, Arizona Independent Power, Inc., 957 Fairway Drive, Sonoma, CA 95476; phone: (707) 996-2573.

FERC Contact: Emily Carter, 202-502-6512.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project, including a copy of the application, can be viewed or printed on the “eLibrary” link of Commission's Web site at http://www.ferc.gov/docs-filing/elibrary.asp. Enter the docket number (P-13398) in the docket number field to access the document. For assistance, call toll-free 1-866-208-3372.

Kimberly D. Bose,
Secretary.

[FR Doc. E9-16979 Filed 7-16-09; 8:45 am]

BILLING CODE 6717-01-P